DEPARTMENT OF THE INTERIOR

Bureau of Indian Affairs

Renewal of Agency Information Collection for Reporting System for Public Law 102-477 Demonstration Project; Request for Comments

AGENCY: Bureau of Indian Affairs, Interior.

ACTION: Notice of submission to OMB.

SUMMARY: In compliance with the Paperwork Reduction Act of 1995, the Office of Indian Energy and Economic Development (IEED) is seeking comments on renewal of Office of Management and Budget (OMB) approval for the collection of information for the Reporting System for Public Law 102-477 Demonstration Project. The information collection is currently authorized by OMB Control Number 1076-0135, which expires September 30, 2010.

DATES: Interested persons are invited to submit comments on or before October 25, 2010.

ADDRESSES: You may submit comments on the information collection to the Desk Officer for Department of the Interior at the Office of Management and Budget, by facsimile to (202) 395-5806 or you may send an e-mail to: OIRA_DOCKET@ omb.eop.gov. Please send a copy of your comments to Lynn Forcia, Chief, Division of Workforce Development, Office of Indian Energy and Economic Development, 1849 C Street, NW., Mail Stop 2412 MIB, Washington, DC 20240; Telephone (202) 219-5270; E-mail Lynn.Forcia@bia.gov.

FOR FURTHER INFORMATION CONTACT: You may request further information or obtain copies of the information collection request submission from Lynn Forcia, Chief, Division of Workforce Development (202) 219-5270.

SUPPLEMENTARY INFORMATION:

I. Abstract

IEED is seeking renewal of the approval for the information collection conducted under OMB Control Number 1076-0135, Reporting System for Public Law 102-477 Demonstration Project. This information collection allows IEED to document satisfactory compliance with statutory, regulatory, and other requirements of the various integrated programs. Public Law 102-477 authorizes tribal governments to integrate federally-funded employment, training, and related services and programs into a single, coordinated, comprehensive service delivery plan. Funding agencies include the Department of the Interior, Department of Labor, and the Department of Health and Human Services. Indian Affairs is statutorily required to serve as the lead agency and provides a single, universal report format for use by tribal governments to report on integrated activities and expenditures. IEED shares the information collected from these reports with the Department of Labor and the Department of Health and Human Services.

Approval for this collection expires September 30, 2010. There are forms associated with this collection. No third party notification or public disclosure burden is associated with this collection. There is no change to the approved burden hours for this information collection.

II. Request for Comments

IEED requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0135.

Title: Reporting System for Public Law 102-477 Demonstration Project.

Brief Description of Collection: Public Law 102-477 authorizes tribal governments to integrate federally-funded employment, training and related services programs into a single, coordinated, comprehensive delivery plan. Interior has made available a single universal format for Statistical Reports for tribal governments to report on integrated activities undertaken within their projects, and a single universal format for Financial Reports for tribal governments to report on all project expenditures. Respondents that participate in Temporary Assistance for Needy Families (TANF) must provide additional information on these forms.

Type of Review: Extension without change of a currently approved collection.

Respondents: Indian tribes participating in Public Law 102-477.

Number of Respondents: 65 grantees representing 265 Indian tribes.

Total Number of Responses: 230.

Frequency of Response: Each respondent must supply the information for the Financial Status Report and Public Law 102-477 Demonstration Project Statistical Report once. Approximately 35 of the respondents participant in TANF and must also provide information associated with that program.

Estimated Time per Response: Ranges from 2 to 40 hours.

Estimated Total Annual Hour Burden: 3,840 hours.

Estimated Total Annual Non-Hour Cost Burden: $325.

Dated: September 20, 2010.
Alvin Foster,
Acting Chief Information Officer—Indian Affairs .

[FR Doc. 2010-23913 Filed 9-23-10; 8:45 am]

BILLING CODE 4310-4J-P